DEPARTMENT OF ENERGY

Federal Energy Regulatory Commission

[Docket No. PF15-1-000]

PennEast Pipeline Company, LLC; Notice of Intent To Prepare an Environmental Impact Statement for the Planned PennEast Pipeline Project, Request for Comments on Environmental Issues, and Notice of Public Scoping Meetings

January 13, 2015.

The staff of the Federal Energy Regulatory Commission (FERC or Commission) will prepare an environmental impact statement (EIS) that will discuss the environmental impacts of the PennEast Pipeline Project (Project) involving construction and operation of facilities by PennEast Pipeline Company, LLC (PennEast), a partnership of six member companies including AGL Resources, New Jersey Resources Pipeline Company, South Jersey Industries, Public Service Electric and Gas Company Power LLC, Spectra Energy Partners, and UGI Energy Services. The Commission will use this EIS in its decision-making process to determine whether the Project is in the public convenience and necessity.

This notice announces the opening of the scoping process the Commission will use to gather input from the public and interested agencies and stakeholders on the Project. Your input will help the Commission staff determine what issues they need to evaluate in the EIS. Please note that the scoping period will close on February 12, 2015. However, this is not your only public input opportunity; please refer to the Review Process flow chart in appendix 1.¹

¹ The appendices referenced in this notice will not appear in the Federal Register. Copies of the appendices were sent to all those receiving this notice in the mail and are available at www.ferc.gov using the link called “eLibrary” or from the Commission's Public Reference Room, 888 First Street NE., Washington, DC 20426, or call (202) 502-8371. For instructions on connecting to eLibrary, refer to the last page of this notice.

You may submit comments in written form or verbally. Further details on how to submit written comments are in the Public Participation section of this notice. In lieu of or in addition to sending written comments, the Commission invites you to attend the public scoping meetings scheduled as follows:

Date and time | Location
January 27, 2015, 6:00 PM Eastern Time | College of New Jersey, 2000 Pennington Road, Ewing, NJ 08628.
January 28, 2015, 6:00 PM Eastern Time | Bucks County Community College, 275 Swamp Road, Newtown, PA 18940.
February 10, 2015, 6:00 PM Eastern Time | Northampton Community College, 3835 Green Pond Rd, Bethlehem, PA 18020.
February 11, 2015, 6:00 PM Eastern Time | Penn's Peak, 325 Maury Road, Jim Thorpe, PA 18229.
February 12, 2015, 6:00 PM Eastern Time | Best Western Hotel & Conference Center, 77 E Market Street, Wilkes-Barre, PA.

This notice is being sent to the Commission's current environmental mailing list for this Project. State and local government representatives should notify their constituents of this planned Project and encourage them to comment on their areas of concern.

The purpose of these scoping meetings is to provide the public an opportunity to learn more about the Commission's environmental review process, and to verbally comment on the Project. Each scoping meeting will start at 6:00 p.m. and representatives from PennEast will be present one hour prior to the start of each meeting to answer questions about the Project. Affected landowners and interested groups and individuals are encouraged to attend the scoping meetings and present comments on the issues they believe should be addressed in the EIS. A transcript of each meeting will be added to the Commission's administrative record to ensure that your comments are accurately recorded.

If you are a landowner receiving this notice, a pipeline company representative may contact you about the acquisition of an easement to construct, operate, and maintain the planned facilities. The company would seek to negotiate a mutually acceptable agreement. However, if the Commission approves the Project, that approval conveys with it the right of eminent domain. Therefore, if easement negotiations fail to produce an agreement, the pipeline company could initiate condemnation proceedings where compensation would be determined in accordance with state law.

The “For Citizens” section of the FERC Web site (www.ferc.gov) provides more information about the FERC and the environmental review process. This section also includes information about getting involved in FERC jurisdictional projects, and a citizens' guide entitled “An Interstate Natural Gas Facility On My Land? What Do I Need To Know?” The guide addresses a number of frequently asked questions, including the use of eminent domain and how to participate in the Commission's proceedings.

Summary of the Planned Project

PennEast plans to construct, install, own, operate, and maintain the planned Project to provide approximately 1.0 billion cubic feet per day of year-round transportation service from northern Pennsylvania to markets in eastern and southeastern Pennsylvania and New Jersey. PennEast states the Project would bring natural gas produced in the Marcellus Shale region in eastern Pennsylvania to homes and businesses in Pennsylvania and New Jersey. The Project would extend from various receipt point interconnections, including interconnections with Transcontinental Gas Pipeline Company, LLC and gathering systems operated by Williams Partners L.P., Regency Energy Partners LP, and UGI Energy Services, LLC, all in Luzerne County, Pennsylvania. Various delivery point interconnections would be constructed including UGI Utilities, Inc. in Carbon and Northampton Counties, Pennsylvania, Columbia Gas Transmission, LLC in Northampton County; and Elizabethtown Gas, Texas Eastern Transmission, LP and Algonquin Transmission, LLC, all in Hunterdon, New Jersey.

The planned Project would consist of constructing or installing the following components:

• 108.8 miles of new 36-inch-diameter pipeline, originating near Dallas, Luzerne County, Pennsylvania and terminating near Pennington, Mercer County, New Jersey. The pipeline route would also traverse Carbon, Northampton, and Bucks Counties, Pennsylvania, and Hunterdon and Mercer Counties, New Jersey;

• the Hellertown Lateral, a 2.1-mile, 24-inch-diameter new pipeline and the associated TCO Interconnect and UGI Lehigh Interconnect and Launcher/Receiver Site in Northampton County, Pennsylvania;

• one new compressor station near Blakeslee in Kidder Township, Carbon County, Pennsylvania. Installation of three gas turbine-driven Taurus 70 units rated at 10,916 horsepower (hp) each under ISO conditions (32,745 total ISO hp);

• the Wyoming Interconnect at Milepost (MP) 0.00 in Luzerne County, Pennsylvania;

• the Springville Interconnect at MP 0.25 in Luzerne County, Pennsylvania;

• the Auburn and Leidy Interconnects at MP 4.50 in Luzerne County, Pennsylvania;

• the UGI HAZ Interconnect at MP 25.50 in Carbon County, Pennsylvania;

• the Elizabethtown Interconnect at MP 76.35 in Hunterdon County, New Jersey;

• the Algonquin and TETCO Interconnects in Hunterdon County, New Jersey;

• the Transco Interconnect at MP 108.8 in Mercer County, New Jersey; and

• seven mainline block valves at locations along the planned pipeline segments in Luzerne, Carbon, and Northampton Counties, Pennsylvania and Hunterdon County, New Jersey.

The general location of the Project facilities is shown in appendix 2.

PennEast plans to conduct tree clearing in the fourth quarter of 2016 with construction starting in Spring 2017 and a projected in-service date of October 1, 2017.

Land Requirements for Construction

PennEast is still in the planning phase of the Project and workspace requirements have not been finalized. However, PennEast is planning on using a 100-foot-wide construction right-of-way for the 36-inch-diameter pipeline, affecting approximately 1,308 acres of land based on the length of the pipeline. Following construction, PennEast would retain a 50-foot-wide easement for operation of the Project. PennEast would also require land for additional temporary workspaces at road, railroad, waterbody, and wetland crossings; topsoil storage; access roads; storage or pipe yards; and other purposes during construction.

The EIS Process

The National Environmental Policy Act (NEPA) requires the Commission to take into account the environmental impacts that could result from an action whenever it considers the issuance of a Certificate of Public Convenience and Necessity. NEPA also requires us ² to discover and address concerns the public may have about proposals. This process is referred to as scoping. The main goal of the scoping process is to focus the analysis in the EIS on the important environmental issues. By this notice, the Commission requests public comments on the scope of the issues to address in the EIS. We will consider all filed comments during the preparation of the EIS, and address as appropriate.

² “We,” “us,” and “our” refer to the environmental staff of the Commission's Office of Energy Projects.

In the EIS we will discuss impacts that could occur as a result of the construction and operation and maintenance of the planned Project under these general headings:

• Geology;

• soils;

• water resources, including surface water and groundwater;

• wetlands;

• vegetation and wildlife, including migratory birds;

• fisheries and aquatic resources;

• threatened, endangered, and other special-status species;

• land use, recreation, special interest areas, and visual resources;

• socioeconomics;

• cultural resources;

• air quality and noise;

• public safety and reliability; and

• cumulative environmental impacts.

We will also evaluate possible alternatives to the planned Project or portions of the Project, and make recommendations on how to lessen or avoid impacts on the various resource areas.

Although no formal application has been filed, we have already initiated our NEPA review under the Commission's pre-filing process. The purpose of the pre-filing process is to encourage early involvement of interested stakeholders and to identify and resolve issues before the FERC receives an application. As part of our pre-filing review, we participated in public Open House meetings sponsored by PennEast in the project area in November 2014 to explain the environmental review process to interested stakeholders. We have also begun to contact federal and state agencies to discuss their involvement in the scoping process and the preparation of the EIS.

The EIS will present our independent analysis of the issues. We will publish and distribute the draft EIS for public comment. After the comment period, we will consider all timely comments and revise the document, as necessary, before issuing a final EIS. To ensure we have the opportunity to consider and address your comments, please carefully follow the instructions in the Public Participation section of this notice.

With this notice, we are asking agencies with jurisdiction by law and/or special expertise with respect to the environmental issues related to this Project to formally cooperate with us in the preparation of the EIS.³ Agencies that would like to request cooperating agency status should follow the instructions for filing comments provided under the Public Participation section of this notice. Currently, the U.S. Army Corps of Engineers (USACE) has expressed their intention to participate as a cooperating agency in the preparation of the EIS to satisfy their NEPA responsibilities related to this Project. The USACE has jurisdictional authority pursuant to Section 404 of the Clean Water Act, which governs the discharge of dredged or fill material into waters of the United States, and Section 10 of the Rivers and Harbors Act, which regulates any work or structures that potentially affect the navigability of a waterway.

³ The Council on Environmental Quality regulations addressing cooperating agency responsibilities are at Title 40, Code of Federal Regulations, part 1501.6.

Consultations Under Section 106 of the National Historic Preservation Act

In accordance with the Advisory Council on Historic Preservation's implementing regulations for Section 106 of the National Historic Preservation Act, we are using this notice to initiate consultation with applicable State Historic Preservation Offices (SHPO), and to solicit their views and those of other government agencies, interested Indian tribes, and the public on the Project's potential effects on historic properties.⁴ We will define the Project-specific Area of Potential Effects (APE) in consultation with the SHPOs as the Project develops. On natural gas facility projects, the APE at a minimum encompasses all areas subject to ground disturbance (examples include construction right-of-way, contractor/pipe storage yards, compressor stations, and access roads). Our EIS for this project will document our findings on the impacts on historic properties and summarize the status of consultations under Section 106.

⁴ The Advisory Council on Historic Preservation regulations are at Title 36, Code of Federal Regulations, part 800. Those regulations define historic properties as any prehistoric or historic district, site, building, structure, or object included in or eligible for inclusion in the National Register of Historic Places.

Currently Identified Environmental Issues

Based on our preliminary review of the Project; information provided by PennEast; and public comments filed in the Commission's administrative record and submitted to staff at the applicant-sponsored open houses; we have identified several issues that we think deserve attention. This preliminary list of issues may change based on your comments and our ongoing environmental analysis. These issues are:

• Purpose and need for the Project;

• impacts on forested areas including fragmentation;

• impacts on agricultural areas and soils;

• impacts on residential areas and use of eminent domain;

• impacts on recreational areas including parks and nature preserves including Appalachian Trail, Sourland Conservancy, and other state-managed and preserved lands;

• impacts on preservation easements on private lands or conservation easements and property values;

• impacts on surface water including Susquehanna, Delaware, and Lehigh Rivers;

• impacts on groundwater including wells and springs;

• impacts on wildlife and vegetation;

• impacts on federal and state-listed threatened, endangered, and sensitive species;

• geologic hazards including karst and seismic areas;

• impacts on air quality;

• impacts related to noise during construction and operation;

• assessment of alternative pipeline routes and compressor station locations; and

• cumulative impacts.

Public Participation

You can make a difference by providing us with your specific comments or concerns about the Project. Your comments should focus on the potential environmental effects, reasonable alternatives, and measures to avoid or lessen environmental impacts. The more specific your comments, the more useful they will be. To ensure that your comments are timely and properly recorded, please send your comments so that the Commission receives them in Washington, DC on or before February 12, 2015. However, this is not your only public input opportunity; please refer to the Review Process flow chart in appendix 1.

For your convenience, there are three methods you can use to submit your comments to the Commission. In all instances, please reference the Project docket number (PF15-1-000) with your submission. The Commission encourages electronic filing of comments and has expert staff available to assist you at (202) 502-8258 or efiling@ferc.gov.

(1) You can file your comments electronically using the eComment feature located on the Commission's Web site (www.ferc.gov) under the link to Documents and Filings. This is an easy method for interested persons to submit brief, text-only comments on a project;

(2) You can file your comments electronically using the eFiling feature located on the Commission's Web site (www.ferc.gov) under the link to Documents and Filings. With eFiling, you can provide comments in a variety of formats by attaching them as a file with your submission. New eFiling users must first create an account by clicking on “eRegister.” You must select the type of filing you are making. If you are filing a comment on a particular project, please select “Comment on a Filing”; or

(3) You can file a paper copy of your comments by mailing them to the following address:

Kimberly D. Bose,
Secretary, Federal Energy Regulatory Commission, 888 First Street NE., Room 1A, Washington, DC 20426.

Environmental Mailing List

The environmental mailing list includes: Federal, state, and local government representatives and agencies; elected officials; environmental and public interest groups; Native American Tribes; other interested parties; and local libraries and newspapers. This list also includes all affected landowners (as defined in the Commission's regulations) who are potential right-of-way grantors, whose property may be used temporarily for project purposes, or who own homes within certain distances of aboveground facilities, and anyone who submits comments on the Project. We will update the environmental mailing list as the analysis proceeds to ensure that we send the information related to this environmental review to all individuals, organizations, and government entities interested in and/or potentially affected by the planned Project.

Copies of the completed draft EIS will be sent to the environmental mailing list for public review and comment. If you would prefer to receive a paper copy of the document instead of the CD version or would like to remove your name from the mailing list, please return the attached Information Request (appendix 3).

Becoming an Intervenor

Once PennEast files its application with the Commission, you may want to become an “intervenor,” which is an official party to the Commission's proceeding. Intervenors play a more formal role in the process and are able to file briefs, appear at hearings, and be heard by the courts if they choose to appeal the Commission's final ruling. An intervenor formally participates in the proceeding by filing a request to intervene. Instructions for becoming an intervenor are in the User's Guide under the “e-filing” link on the Commission's Web site. Please note that the Commission will not accept requests for intervenor status at this time. You must wait until the Commission receives a formal application for the Project.

Additional Information

Additional information about the Project is available from the Commission's Office of External Affairs, at (866) 208-FERC, or on the FERC Web site (www.ferc.gov) using the eLibrary link. Click on the eLibrary link, click on “General Search” and enter the docket number, excluding the last three digits in the Docket Number field (i.e., PF15-1). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to www.ferc.gov/esubscribenow.htm. Public meetings or site visits will be posted on the Commission's calendar located at www.ferc.gov/EventCalendar/EventsList.aspx along with other related information.

Finally, PennEast has established a toll-free phone number (1-844-347-7119) and an email support address (answers@penneastpipeline.com) so that parties can contact it directly with questions about the Project. PennEast has also established a Project Web site (http://penneastpipeline.com) where additional information on the Project is available.

Kimberly D. Bose,
Secretary.

[FR Doc. 2015-01999 Filed 2-2-15; 8:45 am]

BILLING CODE 6717-01-P